DEPARTMENT OF COMMERCE

International Trade Administration

[A-533-813]

Certain Preserved Mushrooms from India: Notice of Partial Rescission of Antidumping Duty Administrative Review

Import Administration, International Trade Administration, Department of Commerce.

EFFECTIVE DATE: July 15, 2005.

FOR FURTHER INFORMATION CONTACT: David J. Goldberger or Kate Johnson, Import Administration, International Trade Administration, U.S. Department of Commerce, 14th Street and Constitution Avenue, N.W., Washington, D.C. 20230; telephone: (202) 482-4136 or (202) 482-4929, respectively.

SUPPLEMENTARY INFORMATION:

Background

On February 1, 2005, the Department published in the Federal Register (70 FR 5136) a notice of “Opportunity To Request Administrative Review” of the antidumping duty order on certain preserved mushrooms from India for the period February 1, 2004, through January 31, 2005. On February 25, 2005, Agro Dutch Industries, Ltd. (Agro Dutch) requested an administrative review of its sales. On February 27, 2005, the petitioner¹ requested an administrative review of the antidumping duty order for the following companies: Agro Dutch, Alpine Biotech Ltd. (Alpine Biotech), Dinesh Agro Products, Ltd. (Dinesh Agro), Flex Foods, Ltd. (Flex Foods), Himalya International, Ltd. (Himalya), Hindustan Lever Limited (Hindustan), KICM (Madras) Ltd. (KICM), Mandeep Mushrooms Ltd. (Mandeep), Premier Mushroom Farms (Premier), Saptarishi Agro Industries Ltd. (Saptarishi Agro), Transchem Ltd. (Transchem), Techtran Agro Industries Limited (Techtran) and Weikfield Agro Products Ltd. (Weikfield). On March 23, 2005, the Department published a notice of initiation of an administrative review of the antidumping duty order on certain preserved mushrooms from India with respect to these companies. See Initiation of Antidumping and Countervailing Duty Administrative Reviews and Requests for Revocation in Part, 70 FR 14643.

¹ The petitioner is the Coalition for Fair Preserved Mushroom Trade which includes: L.K. Bowman, Inc., Monterey Mushrooms, Inc., Mushroom Canning Company, and Sunny Dell Foods, Inc.

On May 6, 2005, the petitioner timely withdrew its request for review with respect to KICM. On June 17, 2005, the petitioner requested that the Department extend the deadline established under 19 CFR 351.213(d)(1) to withdraw its request for review of other companies until July 5, 2005. On June 21, 2005, we granted this request. On June 29, 2005, the petitioner withdrew its request for review with respect to Alpine Biotech, Dinesh Agro, Flex Foods, Himalya, Hindustan, Mandeep, Premier, Saptarishi Agro, Transchem, Techtran and Weikfield.

Partial Rescission of Review

Section 351.213(d)(1) of the Department's regulations stipulates that the Secretary will rescind an administrative review, in whole or in part, if a party that requested a review withdraws the request within 90 days of the date of publication of notice of initiation of the requested review, unless the Secretary decides that it is reasonable to extend this time limit. In this case, the petitioner withdrew its request for review of Alpine Biotech, Dinesh Agro, Flex Foods, Himalya, Hindustan, KICM, Mandeep, Premier, Saptarishi Agro, Transchem, Techtran and Weikfield within the extended time limit. Therefore, because the petitioner was the only party to request the administrative review of these companies, we are rescinding, in part, this review of the antidumping duty order on certain preserved mushrooms from India as to Alpine Biotech, Dinesh Agro, Flex Foods, Himalya, Hindustan, KICM, Mandeep, Premier, Saptarishi Agro², Transchem, Techtran and Weikfield. This review will continue with respect to Agro Dutch.

² On March 25, 2005, Agro Dutch stated that it had purchased the mushroom operations of Saptarishi Agro prior to the current review period. Therefore, any sales made by Saptarishi Agro during the current review period will be examined in the context of the administrative review of Agro Dutch.

Assessment

The Department will instruct U.S. Customs and Border Protection (CBP) to assess antidumping duties on all appropriate entries. Antidumping duties for these rescinded companies shall be assessed at rates equal to the cash deposit of estimated antidumping duties required at the time of entry, or withdrawal from warehouse, for consumption, in accordance with 19 CFR 351.212(c)(1)(i). The Department will issue appropriate assessment instructions directly to CBP within 15 days of publication of this notice.

This notice is published in accordance with section 751 of the Tariff Act of 1930, as amended, and 19 CFR 351.213(d)(4).

Dated: July 11, 2005.
Susan H. Kuhbach,
Acting Assistant Secretary for Import Administration.

[FR Doc. E5-3778 Filed 7-14-05; 8:45 am]

BILLING CODE: 3510-DS-S